DEPARTMENT OF ENERGY

Federal Energy Regulatory Commission

Notice of Effectiveness of Exempt Wholesale Generator Status

| Docket Nos.
Atrisco Solar LLC | EG24-64-000
Atrisco Energy Storage LLC | EG24-65-000
Quail Ranch Solar LLC | EG24-66-000
Quail Ranch Energy Storage LLC | EG24-67-000
Atrisco Solar SF LLC | EG24-68-000
Atrisco BESS SF LLC | EG24-69-000
Quail Ranch Solar SF LLC | EG24-70-000
Quail Ranch BESS SF LLC | EG24-71-000
Alton Post Office Solar, LLC | EG24-72-000
Foxglove Solar Project, LLC | EG24-73-000
Brazos Bend BESS LLC | EG24-74-000
RB Inyokern Solar WDAT 1203 LLC | EG24-75-000
RB Inyokern Solar WDAT 1281 LLC | EG24-76-000
Kupono Solar, LLC | EG24-77-000
Sunlight Road Solar, L.L.C | EG24-78-000
Bristol BESS, LLC | EG24-79-000
Morgan Energy Center, LLC | EG24-80-000
Decatur Solar Energy Center, LLC | EG24-81-000
Washington County Solar, LLC | EG24-82-000
Davis UP Energy Storage LLC | EG24-83-000
Frederick Energy Storage LLC | EG24-84-000
Bromley Energy Storage LLC | EG24-85-000
Keenesburg Energy Storage LLC | EG24-86-000
Mead Energy Storage LLC | EG24-87-000
Parkway Energy Storage LLC | EG24-88-000
Platte Valley Energy Storage LLC | EG24-89-000
Rattlesnake Ridge Energy Storage LLC | EG24-90-000
Monte Cristo Windpower, LLC | EG24-91-000
Wadley Solar, LLC | EG24-92-000
AE-Telview ESS, LLC | EG24-93-000
Texas Waves, LLC | EG24-94-000
Altona Solar, LLC | EG24-95-000
BCD 2024 Fund 2 Lessee, LLC | EG24-96-000
Serrano Solar, LLC | EG24-97-000
Three Rivers District Energy, LLC | EG24-98-000
Great Kiskadee Storage, LLC | EG24-99-000

Take notice that during the month of March 2024, the status of the above-captioned entities as Exempt Wholesale Generators became effective by operation of the Commission's regulations. 18 CFR 366.7(a) (2023).

Dated: April 3, 2024.
Debbie-Anne A. Reese,
Acting Secretary.

[FR Doc. 2024-07560 Filed 4-9-24; 8:45 am]

BILLING CODE 6717-01-P